SMALL BUSINESS ADMINISTRATION

[Disaster Declaration #15512 and #15513; INDIANA Disaster Number IN-00062]

Presidential Declaration Amendment of a Major Disaster for the State of Indiana

AGENCY: U.S. Small Business Administration.

ACTION: Amendment 1.

SUMMARY: This is an amendment of the Presidential declaration of a major disaster for the State of Indiana (FEMA-4363-DR), dated 05/05/2018.

Incident: Severe Storms and Flooding.

Incident Period: 02/14/2018 through 03/04/2018.

DATES: Issued on 06/05/2018.

Physical Loan Application Deadline Date: 07/05/2018.

Economic Injury (EIDL) Loan Application Deadline Date: 02/05/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of Indiana, dated 05/05/2018, is hereby amended to include the following areas as adversely affected by the disaster:

Primary Counties (Physical Damage and Economic Injury Loans): Dearborn, Fulton, Jasper, Kosciusko, La Porte, Ohio, Porter, Pulaski, Spencer, Starke, Switzerland, Vanderburgh, White

Contiguous Counties (Economic Injury Loans Only):

Indiana: Benton, Dubois, Franklin, Gibson, Miami, Perry, Posey, Wabash, Warrick, Whitley

Kentucky: Boone, Daviess, Gallatin, Hancock, Henderson

Ohio: Butler, Hamilton

All other information in the original declaration remains unchanged.

(Catalog of Federal Domestic Assistance Number 59008)

Rafaela Monchek,
Acting Associate Administrator for Disaster Assistance.

[FR Doc. 2018-12965 Filed 6-15-18; 8:45 am]

BILLING CODE 8025-01-P